DEPARTMENT OF COMMERCE

International Trade Administration

[A-351-828]

Hot-Rolled Flat-Rolled Carbon Quality Steel Products From Brazil: Notice of Initiation of Antidumping Duty New Shipper Review

AGENCY: Import Administration, International Trade Administration, Department of Commerce.

ACTION: Notice of Initiation of Antidumping New Shipper Review of Hot-Rolled Flat-Rolled Carbon Quality Steel Products from Brazil.

EFFECTIVE DATE: October 28, 2004.

SUMMARY: On September 27, 2004, the Department of Commerce (“the Department”) received a request to conduct a new shipper review of the antidumping duty (“AD”) order on hot-rolled flat-rolled carbon quality steel products from Brazil. In accordance with section 751(a)(2)(B) of the Tariff Act of 1930, as amended (the Act), and 19 CFR 351.214(d) (2003), we are initiating an AD new shipper review for Companhia Siderrgica de Tubaro (“CST”), a producer and exporter of hot-rolled flat-rolled carbon quality steel products from Brazil.

FOR FURTHER INFORMATION CONTACT: Helen Kramer or Kristin Najdi at (202) 482-0405 and (202) 482-8221, respectively; Antidumping and Countervailing Duty Operations, Office 7, Import Administration, International Trade Administration, U.S. Department of Commerce, 14th Street and Constitution Avenue, NW., Washington, DC 20230.

SUPPLEMENTARY INFORMATION:

Background

On September 27, 2004, the Department received a timely request from CST, in accordance with 19 CFR 351.214(c), for a new shipper review of the AD order on certain hot-rolled flat-rolled carbon quality steel products from Brazil, which has a September semiannual anniversary month. See Antidumping Duty Order: Certain Hot-Rolled Flat-Rolled Carbon Quality Steel Products from Brazil, 67 FR 11093 (March 12, 2002).

As required by 19 CFR 351.214(b)(2)(i) and (iii)(A), CST certified that it did not export subject merchandise to the United States during the period of investigation (“POI”), and that it has never been affiliated with any exporter or producer who exported subject merchandise during the POI. Pursuant to 19 CFR 351.214(b)(2)(iv), the company submitted documentation establishing the date on which it first shipped the subject merchandise to the United States. CST indicated in its request that because it sold the subject merchandise to an unaffiliated customer, it could not provide the Department with documentation establishing the exact date of entry. See submission from Willkie Farr & Gallagher LLP on behalf of Companhia Siderrgica de Tubaro to the Department regarding Request for New Shipper Review, dated September 27, 2004 (“NSR Request”). Pursuant to 19 CFR 351.214(b)(2)(iv), CST also submitted documentation establishing the volume of the shipment and the date of the first sale to an unaffiliated customer in the United States. Both the date of shipment and the date of sale of the subject merchandise fall in the March 1, 2004, through August 31, 2004, period of review. See NSR Request.

Initiation of Reviews

In accordance with section 751(a)(2)(B) of the Act and 19 CFR 351.214(d), and based on record information and our analysis of proprietary import data from U.S. Customs and Border Protection (“CBP”), we find that CST has met the Department's requirements for initiating an AD new shipper review. See New Shipper Initiation Checklist on file in Import Administration's Central Records Unit, Room B-099 of the Herbert H. Hoover Building, 1401 Constitution Avenue, NW. Therefore, we are initiating a new shipper review for CST. We intend to issue the preliminary results of this new shipper review not later than 180 days after initiation of this review. See 19 CFR 351.214(i).

In accordance with 19 CFR 351.214(g)(1)(i)(B), the POR for a new shipper review, initiated in the month following the semiannual anniversary month, will be the six-month period immediately preceding the semiannual anniversary month. Therefore, the POR for this new shipper review is:

New shipper review proceeding | Period of review
Companhia Siderúrgica de Tubarão | 03/01/04-08/31/04

We will instruct CBP to allow the importer, until the completion of the review, to post a bond or security in lieu of a cash deposit for each entry of the subject merchandise produced and exported by the above-listed company, in accordance with section 751(a)(2)(iii) of the Act and 19 CFR 351.214(e). Because CST certified that it both produced and exported the subject merchandise, the sale of which is the basis for this new shipper review request, we will permit the bonding privilege only with respect to entries of subject merchandise for which CST is both the producer and exporter.

Interested parties that need access to proprietary information in this new shipper review should submit applications for disclosure under administrative protective orders in accordance with 19 CFR 351.305 and 351.306.

This initiation and notice are in accordance with section 751(a) of the Act and 19 CFR 351.214(d).

Dated: October 22, 2004.
Jeffrey A. May,
Deputy Assistant Secretary for Import Administration.

[FR Doc. E4-2897 Filed 10-27-04; 8:45 am]

BILLING CODE 3510-DS-P